DEPARTMENT OF TRANSPORTATION

Federal Aviation Administration

14 CFR Part 39

[Docket No. FAA-2025-0342; Project Identifier MCAI-2024-00477-T; Amendment 39-23103; AD 2025-16-05]

RIN 2120-AA64

Airworthiness Directives; Airbus SAS Airplanes

AGENCY: Federal Aviation Administration (FAA), DOT.

ACTION: Final rule.

SUMMARY: The FAA is adopting a new airworthiness directive (AD) for certain Airbus SAS Model A300 B4-2C, A300 B4-203, A300 B4-603, A300 B4-605R, A300 B4-622, A300 B4-622R, and A300 F4-605R airplanes. This AD was prompted by reports of cracking of the main landing gear (MLG) support rib 5 lower flange on certain modified airplanes due to incorrect accomplishment of modification instructions. This AD requires a special detailed inspection (geometrical inspection) of the MLG rib 5 lower flange holes on the left-hand wing and right-hand wing and repair if necessary. The FAA is issuing this AD to address the unsafe condition on these products.

DATES: This AD is effective September 22, 2025.

The Director of the Federal Register approved the incorporation by reference of a certain publication listed in this AD as of September 22, 2025.

ADDRESSES:

AD Docket: You may examine the AD docket at regulations.gov under Docket No. FAA-2025-0342; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0342.

FOR FURTHER INFORMATION CONTACT: Dan Rodina, Aviation Safety Engineer, FAA, 2200 South 216th St., Des Moines, WA 98198; phone: 206-231-3225; email: dan.rodina@faa.gov.

SUPPLEMENTARY INFORMATION:

Background

The FAA issued a notice of proposed rulemaking (NPRM) to amend 14 CFR part 39 by adding an AD that would apply to certain Airbus SAS Model A300 B4-2C, A300 B4-203, A300 B4-603, A300 B4-605R, A300 B4-622, A300 B4-622R, A300 C4-203, A300 C4-620, A300 F4-203, A300 F4-605R, and A300 F4-608ST airplanes. The NPRM was published in the Federal Register on March 12, 2025 (90 FR 11815). The NPRM was prompted by AD 2024-0162, dated August 20, 2024 (EASA AD 2024-0162) (also referred to as the MCAI), issued by EASA, which is the Technical Agent for the Member States of the European Union. The MCAI states that as a result of in-service cracking in an MLG attachment fitting at rib 5, the gear rib 5 lower flange area is the subject of two consecutive mandated retrofit modifications (mandated by EASA AD 2011-0029, dated February 24, 2011 (which corresponds to FAA AD 2012-01-05, Amendment 39-16917 (77 FR 26937, May 8, 2012)) and EASA AD 2011-0028, dated February 24, 2011 (for Model A300 F4-608ST airplanes)) to increase the corner radius, diameter, and depth of the critical spotfaces in order to decrease the stress level generated in the structure. Following occurrences of lower flange cracking reported on airplanes in mandated retrofit post-modification but production pre-modification 11912 configuration, Airbus published an all operators telex (AOT) to require a one-time fluorescent penetrant inspection for cracks of all pre-modification Airbus 11912 airplanes. Airbus conducted an additional investigation after that AOT was published and determined the root cause of the cracking was the incorrect accomplishment of the instructions of a modification service bulletin, leading to deviation from approved design. This condition, if not detected and corrected, could reduce the structural integrity of the airplane.

In the NPRM, the FAA proposed to require a special detailed inspection (geometrical inspection) of the MLG rib 5 lower flange holes on the left-hand wing and right-hand wing and repair if necessary, as specified in EASA AD 2024-0162. The FAA is issuing this AD to address the unsafe condition on these products.

You may examine the MCAI in the AD docket at regulations.gov under Docket No. FAA-2025-0342.

Discussion of Final Airworthiness Directive

Comments

The FAA received comments from FedEx Express and ProTech Aero Services Limited who supported the NPRM without change.

The FAA received additional comments from one anonymous commenter, several of which are outside the scope of the NPRM. The following presents the relevant comments received on the NPRM and the FAA's response to each comment.

Request for Clarification on Remarks Section

The commenter requested that the FAA clarify whether the exception in paragraph (h)(2) of the proposed AD excludes any critical safety information from the Remarks section of the EASA AD that should be considered.

During development of the NPRM, the FAA reviewed the Remarks section of EASA AD 2024-0162 and determined that it does not contain any safety critical information. No change to this AD is necessary in this regard.

Request for Clarification Flexibility for Small Operators

The commenter asked if the FAA will provide additional technical support or compliance flexibility to smaller carriers disproportionately affected by costly repair mandates.

During development of the NPRM, the FAA determined that the proposed rule would not have a significant economic impact, positive or negative, on a substantial number of small entities under the criteria of the Regulatory Flexibility Act. Further, the FAA did not receive any comments on the proposal from small air carriers regarding their ability to comply with the requirements or the economic impact. Therefore, the FAA does not foresee the need to provide any additional support or flexibility beyond what is normally provided under the FAA's regulatory and oversight responsibilities. No change to this AD is necessary in this regard.

Request for Clarification on Aircraft Converted to Cargo

An anonymous commentator asked if the FAA will assess whether A300 airplanes converted to cargo airplanes have different stress profiles that could accelerate flange cracking, and if so, whether supplementary inspections are needed.

The FAA will adhere to its bilateral agreement with EASA. Should EASA notify the FAA that further action is necessary to address the unsafe condition on any Model A300 airplane, the FAA would at that time evaluate the need for rulemaking. No change to this AD is necessary in this regard.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0162, which specifies procedures for performing a one-time geometrical inspection of the spotfaces of the MLG rib 5 lower flange holes on the left-hand wing and right-hand wing to assess geometric compliance to a terminating modification, including a spotface geometry check using “GO/NO-GO” gauges, and repair. This material is reasonably available because the interested parties have access to it through their normal course of business or by the means identified in the ADDRESSES section.

Costs of Compliance

The FAA estimates that this AD affects 128 airplanes of U.S. registry. The FAA estimates the following costs to comply with this AD:

Estimated Costs for Required Actions
Labor cost | Parts cost | Cost per product | Cost on U.S. operators
137 work-hours × $85 per hour = $11,645 | $0 | $11,645 | $1,490,560

The FAA has received no definitive data on which to base the cost estimates for the on-condition repair specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-16-05 Airbus SAS: Amendment 39-23103; Docket No. FAA-2025-0342; Project Identifier MCAI-2024-00477-T.

(a) Effective Date

This airworthiness directive (AD) is effective September 22, 2025.

(b) Affected ADs

None.

(c) Applicability

This AD applies to Airbus SAS Model A300 B4-2C, A300 B4-203, A300 B4-603, A300 B4-605R, A300 B4-622, A300 B4-622R, and A300 F4-605R airplanes, certificated in any category, as identified in European Union Aviation Safety Agency (EASA) AD 2024-0162, dated August 20, 2024 (EASA AD 2024-0162).

(d) Subject

Air Transport Association (ATA) of America Code 57, Wings.

(e) Unsafe Condition

This AD was prompted by reports of cracking of the main landing gear (MLG) support rib 5 lower flange on certain modified airplanes due to incorrect accomplishment of modification instructions. The FAA is issuing this AD to address such cracking, which, if not addressed, could result in reduced structural integrity of the airplane.

(f) Compliance

Comply with this AD within the compliance times specified, unless already done.

(g) Requirements

Except as specified in paragraph (h) of this AD: Comply with all required actions and compliance times specified in, and in accordance with, EASA AD 2024-0162.

(h) Exceptions to EASA AD 2024-0162

(1) Where EASA AD 2024-0162 refers to its effective date, this AD requires using the effective date of this AD.

(2) This AD does not adopt the “Remarks” section of EASA AD 2024-0162.

(i) No Reporting Requirement

Although the material referenced in EASA AD 2024-0162 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraphs (i) and (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dan Rodina, Aviation Safety Engineer, FAA, 2200 South 216th St., Des Moines, WA 98198; phone: 206-231-3225; email: dan.rodina@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0162, dated August 20, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 4, 2025.
Peter A. White,
Deputy Director, Integrated Certificate Management Division, Aircraft Certification Service.

[FR Doc. 2025-15686 Filed 8-15-25; 8:45 am]

BILLING CODE 4910-13-P